DEPARTMENT OF COMMERCE

National Oceanic and Atmospheric Administration

[RTID 0648-XA461]

Meeting of the Columbia Basin Partnership Task Force of the Marine Fisheries Advisory Committee

AGENCY: National Marine Fisheries Service (NMFS), National Oceanic and Atmospheric Administration (NOAA), Department of Commerce.

ACTION: Notice of open public meeting.

SUMMARY: This notice sets forth the proposed schedule and agenda of a forthcoming meeting of the Marine Fisheries Advisory Committee's (MAFAC's) Columbia Basin Partnership Task Force (CBP Task Force). The CBP Task Force will discuss the issues outlined in the SUPPLEMENTARY INFORMATION below.

DATES: The meeting will be September 23, 2020, 9 a.m.-5 p.m., Pacific Time (PT).

ADDRESSES: Meeting is by conference call and webinar.

FOR FURTHER INFORMATION CONTACT: Katherine Cheney; NFMS West Coast Region; 503-231-6730; email: Katherine.Cheney@noaa.gov.

SUPPLEMENTARY INFORMATION: Notice is hereby given of a meeting of MAFAC's CBP Task Force. The MAFAC was established by the Secretary of Commerce (Secretary) and, since 1971, advises the Secretary on all living marine resource matters that are the responsibility of the Department of Commerce. The MAFAC charter is located online at https://www.fisheries.noaa.gov/topic/partners#marine-fisheries-advisory-committee-. The CBP Task Force reports to MAFAC and is being convened to develop recommendations for long-term goals to meet Columbia Basin salmon recovery, conservation needs, and harvest opportunities, in the context of habitat capacity and other factors that affect salmon mortality. More information is available at the CBP Task Force web page: https://www.fisheries.noaa.gov/west-coast/partners/columbia-basin-partnership-task-force.

Matters To Be Considered

The meeting time and agenda are subject to change. Meeting topics include final deliberations on the content of the Phase 2 report including biological and physical scenarios; social, cultural, economic, and ecosystem considerations; key messages; and options for future collaboration for achieving Columbia Basin salmon and steelhead goals. The approved final Phase 2 report will be delivered to MAFAC for its consideration after the conclusion of this meeting.

Time and Date

The meeting is scheduled for September 23, 2020, 9 a.m.-5 p.m., PT by conference call and webinar. Access information for the public will be posted by September 16, 2020 at https://www.fisheries.noaa.gov/event/columbia-basin-partnership-task-force-meeting-8.

Dated: August 31, 2020.
Jennifer L. Lukens,
Federal Program Officer, Marine Fisheries Advisory Committee, National Marine Fisheries Service.

[FR Doc. 2020-19479 Filed 9-2-20; 8:45 am]

BILLING CODE 3510-22-P